DEPARTMENT OF TRANSPORTATION

Federal Aviation Administration

Fifty-Ninth Meeting: RTCA Special Committee 186, Automatic Dependent Surveillance-Broadcast (ADS-B)

AGENCY: Federal Aviation Administration (FAA), U.S. Department of Transportation (DOT).

ACTION: Meeting Notice of RTCA Special Committee 186, Automatic Dependent Surveillance-Broadcast (ADS-B).

SUMMARY: The FAA is issuing this notice to advise the public of the fifty ninth meeting of the RTCA Special Committee 186, Automatic Dependent Surveillance-Broadcast (ADS-B)

DATES: The meeting will be held December 9-13, from 9:00 a.m.—5:00 p.m.

ADDRESSES: The meeting will be held at the RTCA Headquarters, 1150 18th Street NW., Suite 910, Washington, DC 20036.

FOR FURTHER INFORMATION CONTACT: The RTCA Secretariat, 1150 18th Street NW., Suite 910, Washington, DC 20036, or by telephone at (202) 330-0662/(202) 833-9339, fax (202) 833-9434, or Web site at http://www.rtca.org.

SUPPLEMENTARY INFORMATION: Pursuant to section 10(a)(2) of the Federal Advisory Committee Act (Pub. L. 92-463, 5 U.S.C., App.), notice is hereby given for a meeting of Special Committee 186. The agenda will include the following:

December 9

• All Day, WG-4/EUROCAE SubGroup 3—Application Technical. Requirements, MacIntosh-NBAA Room & Colson Board Room

December 10

• All Day, WG-4/EUROCAE SubGroup 3—Application Technical. Requirements, MacIntosh-NBAA Room & Colson Board Room.

December 11

• All Day, WG-4/EUROCAE SubGroup 3—Application Technical. Requirements, MacIntosh-NBAA Room & Colson Board Room

December 12

• All Day, WG-4/EUROCAE SubGroup 3—Application Technical. Requirements, MacIntosh-NBAA Room & Colson Board Room.

December 13

• Chairman's Introductory Remarks Working Group Reports

• Review of Meeting Agenda

• Review/Approval of the Fifty-Eighth Meeting Summary, RTCA Paper No. 078-13/SC186-325.

• FAA Surveillance and Broadcast Services (SBS) Program—Status.

• EUROCAE WG-51 Report

• Review/Approval—New Document—Safety, Performance and Interoperability Requirements Document for Traffic Situation Awareness with Alerts (TSAA), RTCA Paper No. 242-13/SC186-326.

• Review/Approval—Revised DO-317A—Minimum Operational Performance Standards (MOPS) for Aircraft Surveillance Applications (ASA) System, RTCA Paper No. 246-12/SC186-327.

• ADS-B IM Coordination with SC-214/WG-78 for Data Link Rqts-Discussion-Status.

• Working Group Reports

• WG-4—Application Technical Requirements

Flight Deck-based Interval Management (FIM) MOPS Status & Schedule

Cockpit Assisited Pilot Prpocedures (CAPP)

• Terms of Reference—proposed changes and discussion

• Date, Place and Time of Next Meeting

• New Business.

• Other Business.

• Review Action Items/Work Programs.

• Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 14, 2013.
Paige Williams,
Management Analyst, Business Operations Group, NextGen, Management Services, Federal Aviation Administration.

[FR Doc. 2013-27862 Filed 11-20-13; 8:45 am]

BILLING CODE 4910-13-P